DEPARTMENT OF TRANSPORTATION

Federal Aviation Administration

14 CFR Part 39

[Docket No. 2002-CE-05-AD and Docket No. 2002-CE-57-AD]

RIN 2120-AA64

Airworthiness Directives; Cessna Aircraft Company Models 401, 401A, 401B, 402, 402A, 402B, 402C, 411, and 411A, and 414A Airplanes; Notice of Public Meeting

AGENCY: Federal Aviation Administration, DOT.

ACTION: Notice of public meeting; reopening of the comment periods.

SUMMARY: This document reopens the comment periods and announces a public meeting on the subject proposed airworthiness directives (ADs) that would apply to Cessna Aircraft Company (Cessna) Models 401, 401A, 401B, 402, 402A, 402B, 402C, 411, and 411A, and 414A airplanes. The proposed ADs would supersede existing ADs and would require you to repetitively inspect the wing spar caps for fatigue cracks with any necessary repair or replacement on all airplanes and incorporate a spar strap modification on each wing spar on certain airplanes. The purpose of the meeting is to discuss technical issues and proposed corrective actions related to our determination that AD actions are necessary to prevent wing spar cap failure due to undetected fatigue cracks. Such failure could result in loss of a wing with consequent loss of airplane control. We are reopening the comment period to facilitate collection and consideration of data that concerns the technical issues. We are also seeking information about possible corrective actions other than those in the proposed ADs.

DATES: The Federal Aviation Administration (FAA) will hold the public meeting on March 3 and 4, 2004, starting at 9 a.m. both days, at the Hilton, Washington Dulles Airport, in Herndon, Virginia.

Registration will begin at 8:30 a.m. on the first day of the meeting.

We must receive any comments on these proposed rules on or before April 5, 2004.

ADDRESSES: We will hold the public meeting at the Hilton, Washington Dulles Airport, 13869 Park Center Road, Herndon, Virginia 20171.

If you are unable to attend, you may mail comments (clearly marked with the docket numbers) to FAA, Central Region, Office of the Regional Counsel, Attention: Rules Docket No. 2002-CE-05-AD and Docket No. 2002-CE-57-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-05-AD and Docket No. 2002-CE-57-AD” in the subject line. If you send comments electronically as attached electronic files, the files must be formatted in Microsoft Word 97 for Windows or ASCII text.

We will give the same consideration to those comments mailed to us as those presented at the public meeting.

FOR FURTHER INFORMATION CONTACT: • For Requests to Present a Statement at the Meeting: Contact Marv Nuss, Aerospace Engineer, FAA, Small Airplane Directorate, 901 Locust, Room 301, Kansas City, Missouri 64106; telephone: (816) 329-4117; facsimile: (816) 329-4090; e-mail: marvin.nuss@faa.gov.

• For Questions Regarding the Proposed ADs: Contact Paul Nguyen, Aerospace Engineer, FAA, Wichita Aircraft Certification Office, 1801 Airport Road, Mid-Continent Airport, Wichita, Kansas 67209; telephone: (316) 946-4125; facsimile: (316) 946-4107.

• For Requests for Special Accommodations: Contact Barbara Pisaro, FAA, Aircraft Certification Service, 800 Independence Ave. SW., Washington, DC 20591; telephone: (202) 267-3827; facsimile: (202) 267-5364.

SUPPLEMENTARY INFORMATION:

Participation at the Public Meeting on the Proposed ADs

What must I do to make a presentation at the meeting? If you would like to make a presentation at the meeting, make your request to FAA no later than 10 days prior to the meeting. Submit these requests to Mr. Marv Nuss as listed in the FOR FURTHER INFORMATION CONTACT section of this document. You must include a written summary of your presentation with a time estimate of your presentation.

Will FAA prepare an agenda? We will prepare an agenda for this meeting. To accommodate all presenters, we may allocate less time for your presentation than you requested. If you request to present after the deadline, we will schedule your presentation as time is available. However, your name may not appear on the agenda.

What if I need special equipment? You should include in your presentation request any special audiovisual equipment that you need. We will accommodate reasonable requests.

Background

Why has the FAA proposed airworthiness directive (AD) action (AD Docket Nos. 2002-CE-05-AD and 2002-CE-57-AD) on the wing spars of the Cessna 400 series airplanes beyond what is already currently required? The following briefly summarizes why we are proposing AD actions on this subject. For more detailed information, reference the notice of proposed rulemakings (NPRMs), Docket No. 2002-CE-05-AD (68 FR 26239, May 15, 2003) and Docket No. 2002-CE-57-AD (68 FR 26244, May 15, 2003):

• The FAA has service history of cracks in the wing spars of numerous airplanes since the late 1970s. The most recent was a fatal wing separation accident in 1999.

• Fatigue analysis performed by Cessna and the FAA shows that the wing spars of Cessna 400 series airplanes could fail if not modified.

• The primary safety concern is that once a crack starts in the spar cap, it grows to critical length before it can be detected by current nondestructive inspection (NDI) methods. At the critical length, the crack is still under the fastener head.

• The NDI methods used by current AD and maintenance programs are not detecting fatigue cracks and other damage. Cessna reported only one instance where cracks were detected using NDI procedures. There are other reported instances where cracks were detected visually in the wheel well area on the aft flange.

• The problem with visual inspections is the access doubler flanges cover a large percentage of the forward spar flange. This limits the effectiveness of the visual inspections.

Will we have an additional opportunity to comment while FAA plans the public meeting? Yes. Based on the content of the comments and the interest in the rules expressed by various operators and other interested persons, we have determined that the comment periods for the NPRMs should be reopened in order to seek additional data.

The comment periods will remain open until April 5, 2004, which is approximately one month after the public meeting.

Proprietary Data

Will I be able to obtain a copy of Cessna's fatigue analysis at this meeting? No, although some of the information in the analysis will be discussed. Specific portions of the data used in the analysis are considered proprietary. The Trade Secret Act (18 U.S.C. section 1905) prohibits the disclosure of such data. The requirements of the Administrative Procedures Act (APA) do not allow us to bypass the Trade Secret Act.

Because ADs address unsafe conditions associated with aeronautical products, we routinely evaluate proprietary data to determine if AD action is necessary. In determining whether we should include such material in the Rules Docket, FAA applies the standards developed under the Freedom of Information Act (FOIA; 5 U.S.C. section 552); in particular Exemption 4 (section 552(B)(4). Exemption 4 protects “trade secrets and commercial or financial information obtained from a person and privileged or confidential.”

When data is determined to meet the standards above, we do not place them in the Rules Docket. We retain them in a separate file that is not released to the public.

Cessna's fatigue analysis meets the requirements of proprietary under the Trade Secret Act and Exemption 4 of the Freedom of Information Act.

Public Meeting Procedures

What procedures should I follow for this public meeting? If you plan to attend the public meeting, please be aware of the following:

• There is no admission fee or other charge to attend or participate in this meeting. You are responsible for your own transportation and accommodations for the meeting. The meeting is open to all who requested in advance to present or who register on the day of the meeting. This is subject to availability of space in the meeting room.

• FAA representatives will conduct the meeting. We will have a panel of technical experts and managers to discuss information on the subject.

• The public meeting is intended as a forum to:

• Resolve questions that concern the approach used in our determination that AD action is necessary; and

• Seek additional data and supporting methodologies from industry, the general public, and operators. You must limit your presentation and submittals to data of this issue.

• The meeting will allow you to present additional information not currently available to FAA and an opportunity for FAA to explain to you the methodology and technical assumptions that support our conclusions.

• FAA experts, industry, and public participants are expected to hold a full discussion of all technical material presented at the meeting. If you present conclusions on this subject, you must submit data that supports your conclusions. All data will be part of the Rulemaking Dockets.

• We will try and accommodate all speakers. In order to do this, we may need to limit the time for presenters.

• We can make sign and oral interpretation available at the meeting, as well as an assistive listening device. If you need this assistance, make your request to FAA at least 10 days prior to the public meeting.

• A court reporter will record the discussions of the meeting. We will place the transcript of the meeting in the Rules Dockets. If you would like to purchase a copy of the transcript, you must contact the court reporter directly. We will provide further information at the meeting.

• We will review and consider all material presented. Position papers or materials that present views or information related to the proposed ADs may be accepted at the discretion of the presiding officer and placed in the Rules Dockets. The FAA requests that you provide 10 copies of all materials for distribution to the panel members. You have the choice on whether you want to present copies of the material to the audience.

• Panel member statements are intended to facilitate discussion of or to clarify issues. The FAA will consider comments made at this meeting before making a final decision on the issuance of any airworthiness directive.

• The meetings are designed to solicit public views and more complete information on the proposed ADs. Therefore, we will conduct the meeting in an informal and nonadversial manner.

Issued in Kansas City, Missouri, on January 15, 2004.
Dorenda D. Baker,
Manager, Small Airplane Directorate, Aircraft Certification Service.

[FR Doc. 04-1658 Filed 1-26-04; 8:45 am]

BILLING CODE 4910-13-P